DEPARTMENT OF JUSTICE

Notice of Lodging of Proposed Consent Decree Under the Comprehensive Environmental Response, Compensation, and Liability Act, the Clean Water Act, and the Washington Model Toxics Control Act and Notice of Availability of Draft Restoration Plan/Environmental Assessment of Restoration Project Incorporated Into Proposed Consent Decree

On June 13, 2024, the Department of Justice lodged a proposed consent decree with the United States District Court for the Western District of Washington in the lawsuit entitled United States of America, State of Washington, Jamestown S'Klallam Tribe, Lower Elwha Klallam Tribe, Port Gamble S'Klallam Tribe, Skokomish Indian Tribe, and Suquamish Indian Tribe of the Port Madison Reservation v. Pope Resources, OPG Properties LLC, and OPG Port Gamble LLC, Civil Action No. 3:24-cv-05470, Docket No. 2-1.

The complaint asserts claims against Pope Resources, a Delaware Limited Partnership; OPG Properties LLC; and OPG Port Gamble LLC (Defendants) for natural resource damages by the United States on behalf of the Department of the Interior, the State of Washington through the Washington Department of Ecology, the Jamestown S'Klallam Tribe, the Lower Elwha Klallam Tribe, the Port Gamble S'Klallam Tribe, the Skokomish Indian Tribe, and the Suquamish Indian Tribe of the Port Madison Reservation (collectively, the Trustees), pursuant to section 107(a) of the Comprehensive Environmental Response, Compensation, and Liability Act (CERCLA), 42 U.S.C. 9607(a); section 311 of the Clean Water Act (CWA), 33 U.S.C. 1321; and the Washington Model Toxics Control Act (MTCA), RCW 70A.305.

The proposed consent decree resolves claims alleged against Defendants for natural resource damages caused by releases of hazardous substances from the former Pope & Talbot sawmill facility, currently owned by OPG Port Gamble LLC and previously owned and operated by Pope Resources and OPG Properties LLC, to Port Gamble Bay in Kitsap County, Washington. The settlement requires Defendants to construct, implement, maintain, and monitor a habitat restoration project in Port Gamble Bay that involves restoring approximately 20 acres of shoreline and intertidal habitat, placing sand cover, and planting eelgrass. The settlement also requires Defendants to fund future long-term maintenance, monitoring, and stewardship of the project, and pay the Trustees' past and estimated future costs for NRD assessment and restoration implementation and oversight. The Defendants will receive covenants not to sue under the statutes listed in the proposed consent decree for specified natural resource damages.

The Trustees have developed a Draft Restoration Plan and Environmental Assessment (“RP/EA”) for the habitat restoration project, incorporated into the proposed consent decree. The Draft RP/EA proposes to select the habitat restoration project to address injuries to natural resources in the Port Gamble Bay.

The publication of this notice opens a period for public comment on the proposed consent decree and the Draft RP/EA. Comments on the proposed consent decree should be addressed to the Assistant Attorney General, Environmental and Natural Resources Division, and should refer to United States of America, et al. v. Pope Resources, et al., D.J. Ref. No. 90-11-3-11025. All comments must be submitted no later than thirty (30) days after the publication date of this notice. Comments may be submitted either by email or mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed consent decree may be examined and downloaded at this Justice Department website: https://www.justice.gov/enrd/consent-decrees. If you require assistance accessing the proposed consent decree, you may request assistance by email or by mail to the addresses provided above for submitting comments.

The publication of this notice also opens a period for public comment on the Draft RP/EA. The Trustees will receive comments relating to the Draft RP/EA for a period of thirty (30) days from the date of this publication. A copy of the Draft RP/EA is available electronically at https://www.fws.gov/media/port-gamble-bay-draft-restoration-plan-and-enviromental-assessment.

Comments on the draft RP/EA may be submitted electronically to Jeff_krausmann@fws.gov. Additionally, written comments on the Draft RP/EA should be addressed to: Jeff Krausmann, U.S. Fish and Wildlife Service, Washington Fish and Wildlife Office, 1009 College St. SE, Suite 215, Lacey, Washington 98503.

Kathryn C. Macdonald,
Assistant Section Chief, Environmental Enforcement Section, Environment and Natural Resources Division.

[FR Doc. 2024-13428 Filed 6-18-24; 8:45 am]

BILLING CODE 4410-15-P